DEPARTMENT OF STATE

[Public Notice 4361]

Shipping Coordinating Committee; Notice of Meeting

The Shipping Coordinating Committee, Subcommittee on Maritime Safety, will conduct an open meeting at 9:45 a.m. on Tuesday May 20, 2003, in Room 2415, at U.S. Coast Guard Headquarters, 2100 2nd Street, SW., Washington, DC, 20593-0001. The purpose of this meeting will be to finalize preparations for the 77th Session of the Maritime Safety Committee, and associated bodies of the International Maritime Organization (IMO), which is scheduled for May 28 to June 6, 2003, at IMO Headquarters in London. At this meeting, papers received and the draft U.S. positions for the Maritime Safety Committee will be discussed. Items of particular interest are:

—Adoption of amendments to the International Convention for the Safety of Life at Sea (SOLAS) regarding navigation bridge visibility and ship longitudinal strength evaluation and repair.

—Adoption of amendments to the International Convention on Loadlines regarding the regulations for determining loadlines on all ships.

—Large passenger ship safety;

—Bulk carrier safety;

—Measures to enhance maritime security-Outcome of the 2002 Conference;

—Proposed IMO Model Audit Scheme;

—Piracy and armed robbery against ships;

—Reports of seven subcommittees-Dangerous Goods, Solid Cargoes and Containers; Radiocommunications and Search and Rescue; Fire Protection; Standards of Training and Watchkeeping; Ship Design and Equipment; Bulk Liquids and Gases; and Flag State Implementation.

Members of the public may attend this meeting up to the seating capacity of the room. Interested persons may seek information by writing to Mr. Joseph J. Angelo, Commandant (G-MS), U.S. Coast Guard Headquarters, 2100 2nd Street, SW., Room 1218, Washington, DC 20593-0001 or by calling (202) 267-2970.

Dated: May 1, 2003.
Frederick J. Kenney,
Executive Secretary, Shipping Coordinating Committee, Department of State.

[FR Doc. 03-11608 Filed 5-8-03; 8:45 am]

BILLING CODE 4710-07-P